DEPARTMENT OF LABOR

Employment and Training Administration

[TA-W-40,000]

Brother, Industries, USA, Bartlett, TN; Notice of Termination of Investigation

Pursuant to section 221 of the Trade Act of 1974, an investigation was initiated on September 17, 2001 in response to a petition filed on behalf of workers at Brother Industries, USA, Bartlett, Tennessee.

The petitioner has requested that the petition be withdrawn, Consequently, further investigation in this case would serve no purpose, and the investigation has been terminated.

Signed in Washington, DC this 21st day of September, 2001.
Linda G. Poole,
Certifying Officer, Division Trade Adjustment Assistance.

[FR Doc. 01-25473 Filed 10-10-01; 8:45 am]

BILLING CODE 4510-30-M